NUCLEAR WASTE TECHNICAL REVIEW BOARD

Board Meeting: August 1-2, 2000—Carson City, NV: Discussions of a Total System Performance Assessment for a Potential Yucca Mountain, Nevada, Repository for Spent Nuclear Fuel and High-Level Radioactive Waste; Update on Scientific and Engineering Studies Undertaken at the Yucca Mountain Site; and Update on the DOE's Development of a Safety Strategy for a Potential Yucca Mountain Repository

Pursuant to its authority under section 5051 of Public Law 100-203, Nuclear Waste Policy Amendments Act of 1987, on Tuesday, August 1, Wednesday, August 2, the Nuclear Waste Technical Review Board (Board) will meet in Carson City, Nevada, to discuss technical and scientific issues related to evaluating a possible site for a repository for spent nuclear fuel and high-level radioactive waste at Yucca Mountain, Nevada. Among the issues that will be discussed are a total system performance assessment (TSPA), a safety strategy for the potential repository, and scientific and engineering studies being conducted to evaluate the suitability of the Yucca Mountain site. The Board is charged by Congress with reviewing the technical and scientific aspects of the Department of Energy's (DOE) civilian radioactive waste management program, including disposing of, packaging, and transporting the waste.

The Board meeting will be held at Piñon Plaza Resort (Best Western), 2171 Hwy 50 East; Carson City, NV 89701. The telephone number is (775) 885-9000; the fax number is (775)-888-8018. The meeting will start at 8:30 a.m. on both days and will be open to the public.

On Tuesday, August 1, the DOE's Office of Civilian Radioactive Waste Management will present a general overview of the status of the program. The overview will be followed by presentations by representatives of the State of Nevada, including comments on studies conducted by the state related to materials proposed for use in the waste package. The DOE will present updates on ongoing scientific and engineering studies at the Yucca Mountain site, including results of testing in the exploratory tunnels, isotope studies, and estimating volcanic hazard. In the afternoon, discussions will begin on the TSPA that is used by the DOE to estimate potential repository performance. In particular, the DOE will make presentations on TSPA results, their uncertainties, and the individual components that make up the TSPA. Critical assumptions underlying the models used to estimate the performance of a potential repository also will be discussed.

The presentations on the TSPA will resume on Wednesday, August 2, and will continue until midafternoon, when the DOE will update the Board on the development of the DOE's safety strategy for a potential Yucca Mountain repository, including principal factors affecting repository performance, defense-in-depth, natural analogs, and the vulnerabilities, uses, and limitations of the safety case.

Several opportunities for public comment will be provided: before the lunch break and at the end of the day on August 1 and at the end of the session on August 2. Those wanting to speak are encouraged to sign the “Public Comment Register” at the check-in table. A time limit may have to be set on individual remarks, but written comments of any length may be submitted for the record. Interested parties also will have the opportunity to submit questions in writing to the Board. As time permits, the questions will be answered during the meeting.

A detailed agenda will be available approximately one week before the meeting. Copies of the agenda can be requested by telephone or obtained from the Board's Web site at www.nwtrb.gov. Transcripts of the meeting will be available on the Board's Web site, via e-mail, on computer disk, and on a library-loan basis in paper format from Davonya Barnes of the Board staff, beginning on September 4, 2000.

A block of rooms has been reserved at the Piñon Plaza Resort. Reservations must be made by July 10 to receive the meeting rate. When making a reservation, please state that you are attending the Nuclear Waste Technical Review Board meeting. For more information, contact the NWTRB, Karyn Severson, External Affairs, 2300 Clarendon Boulevard, Suite 1300; Arlington, VA 22201-3367; (tel) 703-235-4473; (fax) 703-235-4495; (e-mail) info@nwtrb.gov.

The Nuclear Waste Technical Review Board was created by Congress in the Nuclear Waste Policy Amendments Act of 1987. The Board's purpose is to evaluate the technical and scientific validity of activities undertaken by the Secretary of Energy related to managing the disposal of the nation's spent nuclear fuel and high-level radioactive waste. In the same legislation, Congress directed the DOE to characterize a site at Yucca Mountain, Nevada, to determine its suitability as the location of a potential repository for the permanent disposal of spent nuclear fuel and high-level radioactive waste.

Dated: June 26, 2000.
William D. Barnard,
Executive Director, Nuclear Waste Technical Review Board.

[FR Doc. 00-16726 Filed 6-30-00; 8:45 am]

BILLING CODE 6820-AM-M